INTERNATIONAL BROADCASTING ADVISORY BOARD

Sunshine Act Meetings

TIME AND DATE:

March 19, 2024 3:45 p.m.-5:15 p.m. ET

March 20, 2024 9:15 a.m.-12:30 p.m. ET

PLACE:

On March 19, 2024, the Board will meet at: Wilbur J. Cohen Building, 330 Independence Avenue SW, Washington, DC 20237

On March 20, 2024, the Board will meet at: 1250 Connecticut Avenue NW, Suite 450, Washington, DC 20036

STATUS: This meeting will be closed to the public.

MATTERS TO BE CONSIDERED: The International Broadcasting Advisory Board (Board) will conduct a meeting closed to the public at the dates and times listed above. Board Members (membership includes Chair Kenneth Jarin, Luis Botello, Jamie Fly, Jeffrey Gedmin, Michelle Giuda, Kathleen Matthews, Under Secretary Elizabeth Allen (Secretary of State's Representative)), Chief Executive Officer of the U.S. Agency for Global Media (USAGM), General Counsel and Acting Board Secretary to the Board, the Secretariat to the Board, and recording secretaries will attend the closed meeting. Certain USAGM staff members who may be called on to brief or support the Board also may attend.

The USAGM General Counsel and Acting Board Secretary has certified that, in his opinion, exemptions set forth in the Government in the Sunshine Act, in particular 5 U.S.C. 552b(c)(2), (6), and (9)(B), permit closure of this meeting.

The entirety of the Board's membership approved the closing of this meeting.

The closed meeting will focus on discussing the development of internal rules and practices to govern Board processes and functions. This includes developing processes or rules relating to IBAB, USAGM, and the USAGM networks. Publicizing these deliberations would frustrate the implementation of the very items they will be proposing. [This related to (2) and (9).]

In the event that the time, date, or location of this meeting changes, USAGM will post an announcement of the change, along with the new time, date, and/or place of the meeting on its website at https://www.usagm.gov.

Although a separate federal entity, USAGM prepared this notice and will continue to support the Board in accordance with 22 U.S.C. 6205(g).

CONTACT PERSON FOR MORE INFORMATION: Persons interested in obtaining more information should contact Oanh Tran at (202) 920-2583.

(Authority: 5 U.S.C. 552b, 22 U.S.C. 6205(e)(3)(C))

Dated: March 8, 2024.
Armanda Matthews,
Program Support Specialist, U.S. Agency for Global Media.

[FR Doc. 2024-05371 Filed 3-12-24; 4:15 pm]

BILLING CODE 8610-01-P